FEDERAL COMMUNICATIONS COMMISSION

Information Collection Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees. The FCC may not conduct or sponsor a collection of information unless it displays a currently valid OMB control number. No person shall be subject to any penalty for failing to comply with a collection of information subject to the Paperwork Reduction Act (PRA) that does not display a valid OMB control number

DATES: Written Paperwork Reduction Act (PRA) comments should be submitted on or before April 25, 2014. If you anticipate that you will be submitting PRA comments, but find it difficult to do so within the period of time allowed by this notice, you should advise the FCC contact listed below as soon as possible.

ADDRESSES: Submit your PRA comments to Benish Shah, Federal Communications Commission, via the Internet at Benish.Shah@fcc.gov. To submit your PRA comments by email send them to: PRA@fcc.gov.

FOR FURTHER INFORMATION CONTACT: Benish Shah, Office of Managing Director, (202) 418-7866.

SUPPLEMENTARY INFORMATION: OMB Approval Number: 3060-0065.

Title: Application for New or Modified Radio Stations Authorization Under Part 5 of the FCC Rules—Experimental Radio Service.

Form No.: FCC Form 442.

Type of Review: Extension of a currently approved collection.

Respondents: Business or other for-profit; Not-for-profit institutions; and State, Local or Tribal Government.

Number of Respondents: 400 respondents; 560 responses.

Estimated Time per Response: 4 hours.

Frequency of Response: On occasion reporting requirement and recordkeeping requirement.

Obligation to Respond: Required to obtain or retain benefits.

Total Annual Burden: 2,240 hours.

Total Annual Cost: $32,400.00.

Privacy Impact Assessment: No impact(s).

Nature and Extent of Confidentiality:

Needs and Uses: The Commission will submit this expiring information collection after this 60 day comment period to the Office of Management and Budget (OMB) to obtain the full three year clearance. The Commission is reporting an adjustment which increases the burden estimates to this information collection. The adjustment increases the number of respondents from 200 to 400 (increase of 200), and the annual hours are increased from 1,120 to 2,240 hours (increase of 1,120). This increase is based on the average number of filings for the past 3 years. There is no change in the reporting requirements.

Mandatory electronic filing of applications for Experimental Radio licenses, including FCC Form 442 commenced on January 1, 2004.

Applicants that required an FCC licenses to operate a new or modified experimental radio station must file FCC Form 442, as required by 47 CFR 5.55 (a) through (c) and 47 CFR 5.59 of the Commission's rules. The FCC's information technician and engineers use the data supplied by applicants in FCC Form 442 to determine: (1) If the applicant is eligible for an experimental license; (2) the purpose of the experiment; (3) compliance with the requirements of part 5 of the Commission's rules; and (4) if the proposed operation will cause interference to existing operations. Thus, the FCC cannot grant an experimental license without the information contained on this form.

Federal Communications Commission.
Gloria J. Miles,
Federal Register Liaison, Office of the Secretary, Office of Managing Director.

[FR Doc. 2014-03744 Filed 2-21-14; 8:45 am]

BILLING CODE 6712-01-P